DEPARTMENT OF HEALTH AND HUMAN SERVICES

National Institutes of Health

Center For Scientific Review; Amended Notice of Meeting

Notice is hereby given of a change in the meeting of the Emerging Imaging Technologies and Applications Study Section: February 16, 2023, 9 a.m. to February 17, 2023, 8 p.m., National Institutes of Health, 6701 Rockledge Drive Bethesda, MD 20892, which was published in the Federal Register on January 24, 2023, 88 FR 4197.

This meeting is being amended to change the Contact Person from Larry Kagemann to Jonathan Arias, Ph.D., Center for Scientific Review, National Institutes of Health, 6701 Rockledge Drive, Bethesda, MD, 301-435-2406. The meeting is closed to the public.

Dated: January 31, 2023.
Miguelina Perez,
Program Analyst, Office of Federal Advisory Committee Policy.

[FR Doc. 2023-02350 Filed 2-2-23; 8:45 am]

BILLING CODE 4140-01-P